DEPARTMENT OF ENERGY

Federal Energy Regulatory Commission

Combined Notice of Filings #1

Take notice that the Commission received the following electric corporate filings:

Docket Numbers: EC17-121-000.

Applicants: Battery Utility of Ohio, LLC.

Description: Application of Battery Utility of Ohio, LLC for Authorization Under Section 203 of the Federal Power Act and Request for Waivers, Confidential Treatment, Expedited Action, and Shortened Comment Period.

Filed Date: 5/22/17.

Accession Number: 20170522-5189.

Comments Due: 5 p.m. ET 6/12/17.

Take notice that the Commission received the following electric rate filings:

Docket Numbers: ER17-1650-000.

Applicants: ITC Midwest LLC.

Description: § 205(d) Rate Filing: Filing of a Master Joint Use Agreement for Distribution Underbuild to be effective 7/24/2017.

Filed Date: 5/22/17.

Accession Number: 20170522-5141.

Comments Due: 5 p.m. ET 6/12/17.

Docket Numbers: ER17-1651-000.

Applicants: Virginia Electric and Power Company, PJM Interconnection, L.L.C.

Description: § 205(d) Rate Filing: VEPCO submits revised Interconnection Agreement, Service Agreement No. 3453 to be effective 5/16/2017.

Filed Date: 5/22/17.

Accession Number: 20170522-5162.

Comments Due: 5 p.m. ET 6/12/17.

Docket Numbers: ER17-1652-000.

Applicants: Bayonne Energy Center, LLC.

Description: Petition of Bayonne Energy Center, LLC for Limited Waiver and Request for Commission Action by August 1, 2017.

Filed Date: 5/22/17.

Accession Number: 20170522-5187.

Comments Due: 5 p.m. ET 6/12/17.

Docket Numbers: ER17-1653-000.

Applicants: Duke Energy Progress, LLC.

Description: § 205(d) Rate Filing: DEP-DOM IA RS No. 196 Concurrence to be effective 5/16/2017.

Filed Date: 5/23/17.

Accession Number: 20170523-5004.

Comments Due: 5 p.m. ET 6/13/17.

Docket Numbers: ER17-1654-000.

Applicants: Midcontinent Independent System Operator, Inc.

Description: § 205(d) Rate Filing: 2017-05-23_SA 2904 M3 Solar-Cooperative Energy GIA (J473) to be effective 5/24/2017.

Filed Date: 5/23/17.

Accession Number: 20170523-5010.

Comments Due: 5 p.m. ET 6/13/17.

Docket Numbers: ER17-1656-000.

Applicants: Midcontinent Independent System Operator, Inc.

Description: § 205(d) Rate Filing: 2017-05-23_SA 3017 ATC-DPC Facilities Reimbursement Agreement to be effective 5/24/2017.

Filed Date: 5/23/17.

Accession Number: 20170523-5037.

Comments Due: 5 p.m. ET 6/13/17.

Docket Numbers: ER17-1662-000.

Applicants: Northern States Power Company, a Minnesota corporation, Northern States Power Company, a Wisconsin corporation.

Description: Notice of Cancellation of Marshland Facilities Agreement and Administrative Services Agreement of Northern States Power Company, a Minnesota corporation, et al.

Filed Date: 5/23/17.

Accession Number: 20170523-5066.

Comments Due: 5 p.m. ET 6/13/17.

Take notice that the Commission received the following public utility holding company filings:

Docket Numbers: PH17-15-000.

Applicants: PGGM Vermogensbeheer B.V.

Description: PGGM Vermogensbeheer B.V. submits FERC 65-B Material Change in Facts of Waiver Notification, et al.

Filed Date: 5/22/17.

Accession Number: 20170522-5160.

Comments Due: 5 p.m. ET 6/12/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 23, 2017.
Kimberly D. Bose,
Secretary.

[FR Doc. 2017-11200 Filed 5-30-17; 8:45 am]

BILLING CODE 6717-01-P